FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted August 1, 2018 Thru August 31, 2018
08/02/2018
20181399 | G | Tyson Family 2009 Trust; Thomas N. Bagwell; Tyson Family 2009 Trust.
08/03/2018
20181417 | G | UnitedHealth Group Incorporated; PH Holdings, L.L.C.; UnitedHealth Group Incorporated.
20181626 | G | Churchill Downs Incorporated; Eldorado Resorts, Inc.; Churchill Downs Incorporated.
20181653 | G | Oakland County Credit Union; Vibe Credit Union; Oakland County Credit Union.
20181689 | G | Atos SE; Syntel, Inc.; Atos SE.
20181697 | G | The Timken Company; Clyde Blowers Capital Fund III LP; The Timken Company.
20181698 | G | The Interpublic Group of Companies, Inc.; Acxiom Corporation; The Interpublic Group of Companies, Inc.
20181700 | G | PSP Public Credit I Inc.; Permira V L.P. 2; PSP Public Credit I Inc.
20181702 | G | Salesforce.com, Inc.; Datorama Inc.; Salesforce.com, Inc.
20181703 | G | Ashtead Group plc; Matthew Lange and Karen Lange; Ashtead Group plc.
20181707 | G | KKR Americas Fund XII, L.P.; Shamrock RB Co-Invest, LLC; KKR Americas Fund XII, L.P.
20181709 | G | Francisco Partners V, L.P.; Permira V L.P.2; Francisco Partners V, L.P.
20181716 | G | Kao Corporation; Gryphon Partners 3.5, L.P.; Kao Corporation.
20181718 | G | Cambrex Corporation; SKCP III Angel AIV L.P.; Cambrex Corporation.
20181721 | G | Asahi Kasei Corporation; Clearlake Capital Partners III, L.P.; Asahi Kasei Corporation.
08/06/2018
20181671 | G | CACI International Inc.; General Dynamics Corporation; CACI International Inc.
20181711 | G | The Veritas Capital Fund V, L.P.; Sharon B. Martin and Sydney F. Martin; The Veritas Capital Fund V, L.P.
08/07/2018
20181726 | G | Michael S. Dell; Independence Contract Drilling, Inc.; Michael S. Dell.
20181727 | G | Independence Contract Drilling, Inc.; Michael S. Dell; Independence Contract Drilling, Inc.
08/08/2018
20181701 | G | Future plc; ABS Capital Partners VI, L.P.; Future plc.
08/10/2018
20181644 | G | Alphabet Inc.; Neutron Holdings, Inc.; Alphabet Inc.
20181661 | G | Perceptive Life Sciences Master Fund, Ltd.; Paul B. Manning; Perceptive Life Sciences Master Fund, Ltd.
20181722 | G | CVC Capital Partners VII (A) L.P.; FIMEI S.p.A.; CVC Capital Partners VII (A) L.P.
20181734 | G | EQT VIII (No. 1) SCSp; Apax VIII-B L.P.; EQT VIII (No. 1) SCSp.
20181743 | G | GSO CSF III Holdco LP; Differential Brands Group Inc.; GSO CSF III Holdco LP.
20181744 | G | GSO Capital Opportunities Fund III LP; Differential Brands Group Inc.; GSO Capital Opportunities Fund III LP.
20181745 | G | Differential Brands Group Inc.; Global Brands Group Holding Limited; Differential Brands Group Inc.
20181746 | G | Welsh, Carson, Anderson & Stowe XII, L.P.; NEW Asurion Corporation; Welsh, Carson, Anderson & Stowe XII, L.P.
20181759 | G | PGGM Cooperatie U.A.; SUEZ S.A.; PGGM Cooperatie U.A.
20181760 | G | The Procter & Gamble Company; Lilli Gordon; The Procter & Gamble Company.
20181762 | G | New Jersey Resources Corporation; Riverstone Global Energy and Power Fund V (FT), L.P.; New Jersey Resources Corporation.
20181764 | G | Accel Growth Fund II L.P.; Freshworks Inc.; Accel Growth Fund II L.P.
20181768 | G | Pfizer Inc.; AT Impf GmbH; Pfizer Inc.
20181785 | G | Providence Equity Partners VIII L.P.; NEW Asurion Corporation; Providence Equity Partners VIII L.P.
20181786 | G | Providence Equity Partners VIII-A L.P.; NEW Asurion Corporation; Providence Equity Partners VIII-A L.P.
20181787 | G | PEP VIII Antares Co-Investment L.P.; NEW Asurion Corporation; PEP VIII Antares Co-Investment L.P.
20181803 | G | Odyssey Investment Partners Fund V, LP; AEA Investors Small Business Fund II LP; Odyssey Investment Partners Fund V, LP.
08/13/2018
20181705 | G | Hitachi Ltd.; Nirupama Vasireddy; Hitachi Ltd.
20181765 | G | Archer-Daniels-Midland Company; Joseph H. Basta; Archer-Daniels-Midland Company.
20181767 | G | Archer-Daniels-Midland Company; Daniel L. Berlin; Archer-Daniels-Midland Company.
20181773 | G | Matlin & Partners Acquisition Corp.; USWS Holdings LLC; Matlin & Partners Acquisition Corp.
20181775 | G | Intertek Group plc; Riverside Micro-Cap Fund II, L.P.; Intertek Group plc.
20181780 | G | Ultra Clean Holdings, Inc.; Quantum Global Technologies, LLC; Ultra Clean Holdings, Inc.
08/14/2018
20181682 | G | Trident VII, L.P.; Sabal Capital Partners, LLC; Trident VII, L.P.
20181733 | G | Agnaten SE; Compagnie Industrielle et Financiere des Produits Amyla; Agnaten SE.
20181752 | G | Summit Partners Growth Equity Fund IX-A, L.P.; Warburg Pincus Private Equity XI, L.P.; Summit Partners Growth Equity Fund IX-A, L.P.
20181795 | G | Invengo Information Technology Co., Ltd.; OEP VI Feeder (Cayman), L.P.; Invengo Information Technology Co., Ltd.
08/15/2018
20181728 | G | MDCP VII Auxillary SPV, L.P.; New Asurion Corporation; MDCP VII Auxillary SPV, L.P.
08/16/2018
20181664 | G | DXC Technology Company; Molina Healthcare, Inc.; DXC Technology Company.
20181712 | G | New Mountain Partners V, L.P.; GTCR Fund IX/A, L.P.; New Mountain Partners V, L.P.
20181776 | G | Logitech International S.A.; Riverside Micro-Cap Fund II, L.P.; Logitech International S.A.
08/17/2018
20181790 | G | GUO GUANGCHANG; Dr. Lutz M. Helmig and Dagmar Helmig; GUO GUANGCHANG.
20181794 | G | Christopher Grassi; Trivest Partners IV, L.P.; Christopher Grassi.
20181801 | G | KKR Core Holding Company LLC; BC Ventures Investor, LLC; KKR Core Holding Company LLC.
20181802 | G | Berkshire Fund IX, L.P.; New Asurion Corporation; Berkshire Fund IX, L.P.
20181811 | G | Gryphon Partners V, L.P.; REP TI Holdings, LLC; Gryphon Partners V, L.P.
20181814 | G | State Street Corporation; Peter K. Lambertus; State Street Corporation.
20181816 | G | BP p.l.c.; BHP Billiton Limited; BP p.l.c.
20181821 | G | Tenex Capital Partners II, L.P.; Leon Howard Holdings, Inc.; Tenex Capital Partners II, L.P.
20181822 | G | Green Equity Investors Side VII, L.P.; Great Hill Equity Partners IV, LP; Green Equity Investors Side VII, L.P.
20181825 | G | AptarGroup Inc.; Wendel SE; AptarGroup Inc.
20181837 | G | Lydall, Inc.; Wind Point Partners VII-A, L.P.; Lydall, Inc.
20181838 | G | Roark Capital Partners, LP; Jamba, Inc.; Roark Capital Partners, LP.
08/20/2018
20181750 | G | Mylan N.V.; Novartis AG; Mylan N.V.
20181805 | G | Jeffrey Broin; Sioux River Ethanol, LLC; Jeffrey Broin.
20181806 | G | Jeffrey Broin; Northern Growers, LLC; Jeffrey Broin.
20181809 | G | Jeffrey Broin; Great Plains Ethanol, LLC; Jeffrey Broin.
20181810 | G | Jeffrey Broin; Voyager Ethanol, LLC; Jeffrey Broin.
20181828 | G | Canada Pension Plan Investment Board; Chesapeake Energy Corporation; Canada Pension Plan Investment Board.
20181829 | G | EQT VIII (No. 1) SCSp; Micro Focus International plc; EQT VIII (No. 1) SCSp.
20181835 | G | TCV IX, L.P.; Peloton Interactive, Inc.; TCV IX, L.P.
20181836 | G | Jeffery D. Hildebrand; The Williams Companies, Inc; Jeffery D. Hildebrand.
20181839 | G | Agnaten SE; Insomnia Cookies Holdings, LLC; Agnaten SE.
08/21/2018
20181699 | G | Akebia Therapeutics, Inc.; Keryx Biopharmaceuticals, Inc.; Akebia Therapeutics, Inc.
20181777 | G | Lightyear Fund III, L.P.; Manulife Financial Corporation; Lightyear Fund III, L.P.
08/22/2018
20181843 | G | Yellow Wood Partners II, L.P.; WP-Paris Co-Invest, L.P.; Yellow Wood Partners II, L.P.
08/23/2018
20181844 | G | Regeneron Pharmaceuticals, Inc.; bluebird bio, Inc.; Regeneron Pharmaceuticals, Inc.
08/24/2018
20181841 | G | Chubu Electric Power Co., Inc.; Co-Investor 3, L.L.C.; Chubu Electric Power Co., Inc.
20181842 | G | Tokyo Electric Power Company Holdings, Inc.; Co-Investor 3, L.L.C.; Tokyo Electric Power Company Holdings, Inc.
20181846 | G | Fortive Corporation; Athena SuperHoldCo, Inc.; Fortive Corporation.
20181848 | G | Cisco Systems, Inc.; Duo Security, Inc.; Cisco Systems, Inc.
20181850 | G | BCP FC Aggregator LP; TaskUS, Inc.; BCP FC Aggregator LP.
20181851 | G | Infrastructure and Energy Alternatives, Inc.; Meadow Valley Resources LLC; Infrastructure and Energy Alternatives, Inc.
20181855 | G | Thomas H. Lee Parallel Fund VIII, L.P.; Post Holdings, Inc.; Thomas H. Lee Parallel Fund VIII, L.P.
20181857 | G | Thomas H. Lee Equity Fund VIII, L.P.; Post Holdings, Inc.; Thomas H. Lee Equity Fund VIII, L.P.
20181872 | G | Enercare Agg LP; Enercare Inc.; Enercare Agg LP.
20181877 | G | ACON Equity Partners IV, L.P.; Newell Brands Inc.; ACON Equity Partners IV, L.P.
08/27/2018
20181729 | G | EIF United States Power Fund IV, L.P.; Phillips 66; EIF United States Power Fund IV, L.P.
20181804 | G | Trident GRS Splitter LLC; Conduent Inc.; Trident GRS Splitter LLC.
20181863 | G | Sentgraf Spousal Trust; Xtreme Drilling Corp.; Sentgraf Spousal Trust.
08/28/2018
20181860 | G | Bessemer Securities LLC; Phillip S. Rhee; Bessemer Securities LLC.
20181867 | G | Bessemer Securities LLC; Oscar and Veronica Saavedra; Bessemer Securities LLC.
20181869 | G | Kosmos Energy Ltd.; DGE III New Holdco, LLC; Kosmos Energy Ltd.
08/29/2018
20181815 | G | Senator Global Opportunity Offshore Fund II Ltd.; MGM Resorts International; Senator Global Opportunity Offshore Fund II Ltd.
20181817 | G | RealPage, Inc.; Dana Zeff; RealPage, Inc.
20181823 | G | Silver Lake Partners V, L.P.; GoodRx Holdings, Inc.; Silver Lake Partners V, L.P.
20181832 | G | Trelleborg AB (publ); Precision Associates, Inc.; Trelleborg AB (publ).
20181880 | G | Ontario Power Generation Inc.; Desmarais Family Residuary Trust; Ontario Power Generation Inc.
20181884 | G | MidOcean Partners V, L.P.; Shamrock Capital Growth Fund III, L.P.; MidOcean Partners V, L.P.
20181886 | G | Moda Midstream, LLC; Occidental Petroleum Corporation; Moda Midstream, LLC.
20181887 | G | EnCap Flatrock Midstream Fund IV, L.P.; Occidental Petroleum Corporation; EnCap Flatrock Midstream Fund IV, L.P.
08/30/2018
20181868 | G | Siemens Aktiengesellschaft; Mendix Holding B.V.; Siemens Aktiengesellschaft.
08/31/2018
20181796 | G | Grubhub Inc.; SCVNGR, Inc.; Grubhub Inc.
20181831 | G | Vista Equity Partners Fund VI, L.P.; Alegeus Technologies Holdings Corp.; Vista Equity Partners Fund VI, L.P.
20181834 | G | SS&C Technologies Holdings, Inc.; Convoy Diamondback Holdings, L.P.; SS&C Technologies Holdings, Inc.
20181849 | G | Biogen Inc.; Samsung BioLogics Co., Ltd.; Biogen Inc.
20181856 | G | VanEck Vectors ETF Trust; New Gold Inc.; VanEck Vectors ETF Trust.
20181864 | G | Basswood Capital Management, LLC; Ally Financial Inc.; Basswood Capital Management, LLC.

FOR FURTHER INFORMATION CONTACT: Theresa Kingsberry, Program Support Specialist, Federal Trade Commission Premerger Notification Office, Bureau of Competition, Room CC-5301, Washington, DC 20024, (202) 326-3100.

By direction of the Commission.
Donald S. Clark,
Secretary.

[FR Doc. 2018-20274 Filed 9-17-18; 8:45 am]

BILLING CODE 6750-01-P